DEPARTMENT OF EDUCATION

[CFDA Nos.: 84.129C, 84.129E, 84.129F, 84.129P, 84.129Q, 84.129R]

Rehabilitation Training: Rehabilitation Long-Term Training; Notice Inviting Applications for New Awards for Fiscal Year (FY) 2004; Correction

SUMMARY: On August 26, 2003, a notice inviting applications for new awards for the Rehabilitation Training: Rehabilitation Long-Term Training program for FY 2004 was published in the Federal Register (68 FR 51263).

On page 51263, in column two, 2nd line, in the list after CFDA No:, add “84.129P,” after “84.129F,”.

On page 51263 in the chart after 84.129F, add the following: “84.129P”, “Specialized personnel for rehabilitation of individuals who are blind or have vision impairment (4)”, and “$100,000” under the headings CFDA number, Priority area (maximum number of awards in parentheses), and Maximum award, respectively.

On page 51263, in column three, the Estimated Total Number of Awards reads “11”. This figure is corrected to read “14”.

On page 51264, in column one, under the heading Pilot Project for Electronic Submission of Applications, in line eight, add “84.129P,” after “84.129F,”.

On page 51264, in column three, under the heading For Applications Contact, in the 4th paragraph in line four, add “P,” after “F,”.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA number 84.129C, E, F, P, Q, or R.

FOR FURTHER INFORMATION CONTACT: Marilyn Fountain, U.S. Department of Education, 400 Maryland Avenue, SW., room 3332, Switzer Building, Washington, DC 20202-2649. Telephone: (202) 205-8294 or via Internet: Marilyn.Fountain@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Service (FIRS) at 1-800-877-8339. However, the Department is not able to reproduce in an alternative format the standard forms included in the application package.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 29 U.S.C. 772.

Dated: September 26, 2003.
Robert H. Pasternack,
Assistant Secretary for Special Education and Rehabilitative Services.

[FR Doc. 03-24947 Filed 10-1-03; 8:45 am]

BILLING CODE 4000-01-P